DEPARTMENT OF THE INTERIOR

National Park Service

[NPS-WASO-NRNHL-1111-8856; 2200-3200-665]

National Register of Historic Places; Notification of Pending Nominations and Related Actions

Nominations for the following properties being considered for listing or related actions in the National Register were received by the National Park Service before November 5, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington DC 20005; or by fax, (202) 371-6447. Written or faxed comments should be submitted by December 14, 2011. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Mobile County

Caldwell School, 351 Broad St., Mobile, 11000898

ARKANSAS

Union County

Mahony Historic District, Roughly bounded by Champagnolle Rd., Alley between N. Madison & Euclid Aves., Lee Ave. & E. 5th St., El Dorado, 11000899

COLORADO

Delta County

Hotchkiss Homestead, 422 Riverside Dr., Hotchkiss, 11000900

El Paso County

Fort Collins Municipal Railway No. 22, 2333 Steel Dr., Colorado Springs, 11000901

Grace and St. Stephen's Episcopal Church, 631 N. Tejon St., Colorado Springs, 11000902

Gilpin County

Russell Gulch I.O.O.F. Hall No. 47—Wagner and Askew, 81 Russell Gulch Rd., Russell Gulch, 11000903

FLORIDA

Lee County

`Tween Waters Inn Historic District, (Lee County MPS), 15951 Captiva Dr., Captiva, 11000904

Miami-Dade County

Collins Waterfront Architectural District, Bounded by 24th St., Atlantic Ocean, Indian Creek Dr., Pine Tree Dr. & Collins Canal, Miami Beach, 11000905

ILLINOIS

Champaign County

Wee Haven, 1509 W. Park Ave., Champaign, 11000906

Cook County

Chicago Sanitary and Ship Canal Historic District, (Illinois Waterway Navigation System Facilities MPS), Illinois Waterway mi. 290.0-321.7, Chicago, 11000907

INDIANA

Boone County

Cragun, Strange Nathanial, House, 404 W. Main St., Lebanon, 11000908

Hancock County

Greenfield Residential Historic District, Roughly bounded by Hendricks, South, & Wood Sts., & Boyd Ave., Greenfield, 11000909

Jackson County

Carr High School, (Indiana's Public Common and High Schools MPS), 10059 W. Cty. Rd. 250 S., Medora, 11000910

Jackson County Courthouse, 111 S. Main St., Brownstown, 11000911

Marion County

Archeological Sites 12Ma648 and 12Ma649, Address Restricted, Indianapolis, 11000912

Irvington Terrace Historic District, (Historic Residential Suburbs in the United States, 1830-1960 MPS), Roughly bounded by E. Washington St., Pleasant Run Pkwy., N. Arlington Ave., and E. side of N. Irwin St., Indianapolis, 11000913

Marshall County

Argos Izaak Walton League Historic District, 7184 E. 16th Rd., Argos, 11000914

Porter County

Read Dunes House, 1453 Tremont Rd., Chesterton, 11000915

Rush County

Indiana Soldiers' and Sailors' Children's Home, 10892 N. IN 140, Knightstown, 11000916

Shelby County

Shelby County Courthouse, 407 S. Harrison St., Shelby, 11000917

Wayne County

Richmond Downtown Historic District, Roughly Main St. between 7th & 10th Sts. & N. 8th St. between Main & A Sts., Richmond, 11000918

MARYLAND

Prince George's County

Piscataway Village Historic District, Bounded by Piscataway Cr., Piscataway Rd. & Livingston Rd., Clinton, 11000919

MASSACHUSETTS

Dukes County

Barn House, 451 South Rd., Chilmark, 11000920

PENNSYLVANIA

Allegheny County

Bell Telephone Company of Pennsylvania Western Headquarters Building, 201 Stanwix St., Pittsburgh, 11000921

Blair County

Keith, D.S., Junior High School, (Educational Resources of Pennsylvania MPS), 1318 19th Ave., Altoona, 11000922

Carbon County

Grotto, The—Our Lady of Lourdes Shrine, 15 E. Garibaldi Ave., Nesquehoning, 11000923

Chester County

Sharpless Homestead, 1045 Birmingham Rd. (Birmingham Township), West Chester, 11000924

Montgomery County

Green Hill Farms, 6 E. Lancaster Ave., Lower Merion, 11000925

Philadelphia County

Park Towne Place, 2200 Park Towne Place, Philadelphia, 11000926

TEXAS

Culberson County

Pratt, Wallace E., House, Pratt Dr. at McKittrick Rd., Salt Flat, 11000927

VERMONT

Chittenden County

Dumas Tenements, 114 W. Allen & 114 W. Canal Sts., Winooski, 11000928

WEST VIRGINIA

Hampshire County

South Branch Bridge, WV 259 N. of jct. Cty. Rd. 16, Capon Lake, 11000929

Mingo County

Williamson Field House, 1703 W. 3rd Ave., Williamson, 11000930

Putnam County

Winfield Toll Bridge, WV 34 mi. 21.34, Winfield, 11000931

A request for removal has been made for the following resources:

INDIANA

Floyd County

Sweet Gum Stable, 627 W. Main St., New Albany, 96000292

TENNESSEE

Greene County

Chuckey Depot, TN 2391, Chuckey, 79002432

[FR Doc. 2011-30623 Filed 11-28-11; 8:45 am]

BILLING CODE 4312-51-P